DEPARTMENT OF HEALTH AND HUMAN SERVICES

Administration for Children and Families

Announcement of the Award of a Single-Source Program Expansion Supplement Grant to the University of Massachusetts, Institute for Community Inclusion, in Boston, MA

AGENCY: Administration on Developmental Disabilities, ACF, HHS.

ACTION: Announcement of a Single-Source Program Expansion Supplement Grant to the University of Massachusetts, Institute for Community Inclusion, Boston, MA, to develop and implement an employment data collection and analysis project related to youth and young adults with intellectual and developmental disabilities.

CFDA Number: 93.631.

Statutory Authority: This award will be made pursuant to Section 161 of the Developmental Disabilities Assistance and Bill of Rights Act of 2000 (42 U.S.C. 15081-15083).

SUMMARY: This notice announces that the Administration for Children and Families (ACF), Administration on Developmental Disabilities (ADD) has awarded a single-source expansion supplement grant of $150,000 for data collection analyses, and reporting.

The following project will be funded:

The University of Massachusetts, Institute for Community Inclusion will collect data, analyze, and report on the employment and economic status of youth and young adults, ages 16 to 30, with intellectual and developmental disabilities. The project will also develop a rigorous, yet practical, ethical, and affordable research design for this evaluation. The data will originate from various existing data sources and will be analyzed using appropriate data analysis techniques. The data will be simplified and categories will be formed that reflect the activities and outcomes of youth and young adults with intellectual and developmental disabilities. A report will be written, highlighting a profile of education, employment, and economic outcomes for youth and young adults with intellectual and developmental disabilities. This information will be provided to ADD and its partners, and will be made available to the public.

DATES: 9/30/2011-9/29/2012.

FOR FURTHER INFORMATION CONTACT: Ophelia McLain, Supervisory Program Specialist, Administration on Developmental Disabilities, 370 L'Enfant Promenade, SW., Aerospace Building, 2nd Floor, Washington, DC 20447. Telephone: (202) 690-7025 Email: ophelia.mclain@acf.hhs.gov.

Dated: October 21, 2011.
Sharon Lewis,
Commissioner, Administration on Developmental Disabilities.

[FR Doc. 2011-28136 Filed 10-28-11; 8:45 am]

BILLING CODE 4184-38-P